DEPARTMENT OF THE INTERIOR

Bureau of Land Management

[LLES962000 L14400000 BJ0000 18X]

Notice of Filing of Plat Survey; Eastern States

AGENCY: Bureau of Land Management, Interior.

ACTION: Notice of official filing; Louisiana and New York.

SUMMARY: The plats of survey of the following described lands are scheduled to be officially filed in the Bureau of land Management (BLM), Eastern States Office, Washington, DC, 30 days from the date of this publication.

DATES: Unless there are protests of this action, the filing of the plats described in this notice will happen on November 30, 2018.

ADDRESSES: Written notices protesting these surveys must be sent to the State Director, BLM Eastern States, Suite 950, 20 M Street SE, Washington, DC 20003.

FOR FURTHER INFORMATION CONTACT: Dominica Van Koten, Chief Cadastral Surveyor for Eastern States; (202) 912-7756; email: dvankote@blm.gov; or U.S. Postal Service: BLM-ES, Suite 950, 20 M Street SE, Washington, DC 20003. Attn: Cadastral Survey. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION:

The lands surveyed are:

Louisiana Meridian, Louisiana

T. 14 S, R. 9 E

The plat, incorporating the field notes describe the dependent resurvey of a portion of the subdivisional lines and the survey of section 58, Township 14 South, Range 9 East, of the Louisiana Meridian, Louisiana; accepted September 29, 2017. The survey was requested by the Southeastern States District Office, BLM.

Allegany and Cattaraugus Counties, New York

The plat, incorporating the field notes of the dependent resurvey of the Oil Springs Indian Reservation; in the state of New York; accepted September 1, 2017. The survey was requested by the Bureau of Indian Affairs.

A person or party who wishes to protest the above surveys must file a written protest 30 calendar days from the date of this publication at the address listed in the ADDRESSES section of this notice. A statement of reasons for the protest may be filed with the notice of protest and must be filed within 30 calendar days after the protest is filed. If a protest against a survey is received prior to the date of official filing, the filing will be stayed pending consideration of the protest. A plat will not be officially filed until the day after all protests have been dismissed or otherwise resolved.

Before including your address, phone number, email address, or other personal identifying information in your comment, please be aware that your entire protest, including your personal identifying information may be made publicly available at any time. While you can ask us in your comment to withhold your personal identifying information from public review, we cannot guarantee that we will be able to do so.

A copy of the described plats will be placed in the open files, and available to the public as a matter of information.

Authority: 43 U.S.C. Chap. 3.

Leon W. Chmura,
Acting Chief Cadastral Surveyor.

[FR Doc. 2018-23825 Filed 10-30-18; 8:45 am]

BILLING CODE 4310-GJ-P